DEPARTMENT OF HEALTH AND HUMAN SERVICES

Indian Health Service

Request for Public Comment; 30-day Proposed Information Collecton: Indian Self-Determination and Education Assistance Contracts

AGENCY: Indian Health Service, HHS.

ACTION: Notice.

SUMMARY: In compliance with Section 3507(a)(1)(D) of the Paperwork Reduction Act of 1995, the Indian Health Service (IHS) is submitting to the Office of Management and Budget (OMB) a request for renewal for the collection of information titled, “Indian Self-Determination and Education Assistance Contracts, 25 C.F.R Part 900,” OMB Control Number 1076-0136. This proposed information collection project was previously published in the Federal Register (78 FR 15035), as a joint submission with the Bureau of Indian Affairs (BIA), under OMB Control Number 1076-0136, on March 8, 2013 and allowed 60 days for public comment, as required by 3506(c)(2)(A). No public comment was received in response to the notice. The purpose of this notice is to allow 30 days for public comment to be submitted directly to OMB. This information collection expires May 31, 2013. As of May 2013, the IHS is pursuing its own OMB Control Number for this information collection and will publish notices separately from the BIA in the Federal Register.

DATE: Interested persons are invited to submit comments on or before July 1, 2013.

ADDRESSES: Send your comments and suggestions regarding the proposed information collection contained in this notice, especially regarding the estimated public burden and associated response time, to: Office of Management and Budget, Office of Regulatory Affairs, New Executive Office Building, Room 10235, Washington, DC 20503, Attention: Desk Officer for IHS.

Please send a copy of your comments to Mr. Chris Buchanan, Director, IHS Office of Direct Services and Contracting Tribes (ODSCT), 801 Thompson Ave., STE. 220, Rockville, MD 20852; send via facsimile to (301) 443-4666; or send via email to Chris.Buchanan@ihs.gov.

FOR FURTHER INFORMATION CONTACT: Contact Mr. Chris Buchanan through the methods listed in the above section or by calling (301) 443-1104, regarding the IHS information collection activities. You may review the information collection request online at http://www.reginfo.gov.

SUPPLEMENTARY INFORMATION:

I. Abstract

Representatives of the IHS seek renewal of the approval for information collections conducted under 25 CFR part 900, implementing the Indian Self-Determination and Education Assistance Act (ISDEAA), as amended (25 U.S.C. 450 et seq.), which describes how contracts are awarded to Indian Tribes. The rule at 25 CFR part 900 was developed through negotiated rulemaking with Tribes in 1996 and governs, among other things, what must be included in a Tribe's initial ISDEAA contract proposal to IHS. A response is required to obtain and retain a benefit.

The information requirements for this rule represent significant differences from other agencies in several respects. Under the Act, the Secretary of Health and Human Services is directed to enter into self-determination contracts with Tribes upon request, unless specific declination criteria apply, and, generally, Tribes may renew these contracts annually, whereas other agencies provide grants on a discretionary or competitive basis. Additionally, IHS awards contracts for multiple programs whereas other agencies usually award single grants to Tribes.

The IHS uses the information collected to determine applicant eligibility, evaluate applicant capabilities, protect the service population, safeguard Federal funds and other resources, and permit the Federal agency to administer and evaluate contract programs. Tribal governments or Tribal organizations provide the information by submitting contract proposals, and related information, to the IHS, as required under Public Law 93-638. No third party notification or public disclosure burden is associated with this collection.

II. Request for Comments

The IHS requests your comments on this collection concerning: (a) the necessity of this information collection for the proper performance of the functions of the agency, including whether the information will have practical utility; (b) the accuracy of the agency's estimate of the burden (hours and cost) of the collection of information, including the validity of the methodology and assumptions used; (c) ways we could enhance the quality, utility, and clarity of the information to be collected; and (d) ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personally identifiable information in your comment, you should be aware that your entire comment—including your personal identifying information—may be made publicly available at any time. While you can ask us in your comment to withhold your personal identifying information from public review, we cannot guarantee that we will be able to do so.

III. Data

OMB Control Number: 1076-0136.

Title: Indian Self-Determination and Education Assistance Contracts, 25 C.F.R. Part 900.

Brief Description of Collection: An Indian Tribe or Tribal organization is required to submit this information each time that it proposes to contract with the IHS under the ISDEAA. Each response may vary in its length. In addition, each subpart of 25 CFR part 900 concerns different parts of the contracting process. For example, Subpart C relates to provisions of the contents for the initial contract proposal. The respondents do not incur the burden associated with Subpart C when contracts are renewed. Subpart F describes minimum standards for management systems used by Indian Tribes or Tribal organizations under these contracts. Subpart G addresses the negotiability of all reporting and data requirements in the contracts. Responses are required to obtain or retain a benefit.

Type of Review: Extension without change of currently approved collection.

Respondents: Federally recognized Indian Tribes and Tribal organizations.

Number of Respondents: 566.

Estimated Number of Responses: 1510.

Estimated Time per Response: Varies from 1 to 1040 hours, with an average of 11 hours per response.

Frequency of Response: Each time programs, functions, services or activities are contracted from the IHS under the ISDEAA.

Estimated Total Annual Hour Burden: 24,112.

Dated: May 23, 2013.
Yvette Roubideaux,
Acting Director, Indian Health Services.

[FR Doc. 2013-12845 Filed 5-29-13; 8:45 am]

BILLING CODE 4165-16-P